DEPARTMENT OF AGRICULTURE

Forest Service

Forest Health and RCW Initiative, National Forests in Alabama, Talladega National Forest, Talladega and Shoal Creek Ranger Districts, Calhoun, Cherokee, Clay, Cleburne, and Talladega Counties, AL

AGENCY: Forest Service, USDA.

ACTION: Notice of intent to prepare an Environmental Impact Statement.

SUMMARY: The Forest Service will prepare an Environmental Impact Statement on a proposal to emphasize forest health initiatives across the Talladega and Shoal Creek Ranger Districts in a systematic five-year program involving:

1. Removal of offsite, high-risk stands, on approximately 9,136 acres of declining loblolly and Virginia pine. This includes 500 acres of non-commercial treatments in longleaf stands that need restoration activities. This forest health treatment will restore the areas to longleaf pine and will include both artificial and natural regeneration. Treatments will range from complete removal of all species except favored hardwoods and longleaf pine, to intense thinning with enough longleaf pine left to naturally reestablish itself. Favored hardwoods species will include a variety of oak and hickory species.

The site preparation methods associated with these treatments will range from, or include a combination of prescribe burning, mechanical, and chemical treatment of competing vegetation. Chemical treatment of restoration stands will include directed folair spray of a 3% solution of Garlon 4, ½% Arsonal, and ½% Sidekick. For injection, a 50% solution of Garlon 3a will be used.

2. Intermediate thinning on approximately 3,047 acres of red-cockaded woodpecker (RCW) habitat inside the RCW Habitat Management Area (HMA).

3. Intermediate thinning of approximately 6,534 acres of 20-45 year old loblolly pine stands to increase vigor and growth, reduce short-term risk of Southern Pine Beetle (SPB) infestation, and begin the restoration process of longleaf pine. Site specific information is available at the Talladega Ranger District Office in Talladega, AL. and the Shoal Creek Ranger office in Heflin, AL.

DATES: Comments concerning this analysis should be received in writing by July 10, 2002.

ADDRESSES: Send written comments to: EIS Team Leader, Talladega Ranger District, 1001 North Street, Talladega, AL 35160.

FOR FURTHER INFORMATION CONTACT: Tony Tooke, Talladega District Ranger, Earl Stewart, Shoal Creek District Ranger, Jeff Seefeldt, EIS Team Leader, Telephone number: (256) 362-2909, FAX number: (256) 362-0823.

SUPPLEMENTARY INFORMATION:

A. The Proposal

The Forest Service proposes to implement a five-year schedule of work to address declining forest health and improve red-cockaded woodpecker (RCW) habitat. The goal is to create and restore natural conditions that historically withstand SPB and premature die-off or decline.

Additionally, the restoration and forest health initiative will enhance habitat for a viable RCW recovery population on the Talladega National Forest located in Calhoun, Cherokee, Clay, Cleburne, and Talladega Counties, Alabama.

The proposed action will focus on (1) Areas that are currently occupied by loblolly pine between the ages of 20-45 years old, (2) areas within the RCW HMA, and (3) areas of offsite, high risk stands of loblolly/Virginia pine.

The actions will include intermediate thinning in loblolly pine forests, intermediate thinning in RCW HMA's for habitat improvement, and restoration treatments (restoration cuts, thinning, etc.) to restore longleaf pine through artificial and natural regeneration.

Actions proposed include:

(1) Intermediate thinning of approximately 6,534 acres of 20-45 year old loblolly pine stands to increase vigor and growth, reduce short-term risk of SPB infestation, and as the first step towards longleaf restoration.

(2) Intermediate thinning of approximately 3,047 acres of red-cockaded woodpecker (RCW) habitat inside the RCW Habitat Management Area (HMA).

(3) Removal of offsite, high-risk stands on approximately 9,136 acres of declining loblolly and Virginia pine. This includes 500 acres of non-commercial treatments. This forest health treatment will restore the areas to longleaf and will include both include artificial and natural regeneration. Treatments will range from complete removal of all species except favored hardwoods and longleaf; to intense thinning with enough longleaf left to naturally reestablish itself. The site preparation associated with these treatments will include prescribe burning and/or chemical treatment of competing vegetation as stated on page 2. Site-specific information is available at the Talladega Ranger office in Talladega, AL. and the Shoal Creek Ranger office in Heflin, AL.

B. Needs for the Proposal

1. Begin the process of improving forest health and vigor by thinning loblolly pine stands as the first step toward restoring a longleaf pine ecosystem and reducing short-term risk of SPB infestation and other risks associated with insect/disease infestations.

2. Reduce tree spacing to create, maintain, and improve RCW habitat.

3. Restore longleaf pine ecosystem to areas occupied by loblolly and Virginia pine that are of poor health, offsite, and have a high risk of insect/disease infestation and to improve existing longleaf stands through non-commercial treatments.

C. Nature and Scope of the Decision To Be Made

Whether to, and to what extent, implement a 5 year schedule of work that will improve forest health by thinning overstocked pine stands impacted by decline, disease and SPB; remove trees in over-crowded RCW area's to create and maintain, or improve suitable habitat; and use of restoration cuts to restore longleaf pine on historic longleaf pine sites. There are forest health issues that are common to the Talladega and Shoal Creek Ranger Districts. These issues, as with most forest health issues, are the end results of the following history of events:

Pre-settlement forests, prior to 1830, were predominantly longleaf pine and fire adapted species of oaks and hickories. The bottom were predominantly hardwood communities. A mix of hardwoods, loblolly pine, shortleaf pine, and some longleaf pine were in transition zones between the uplands and bottoms.

Natural fires (along with the influences of fuels, climate and moisture) maintained this ecosystem and species composition through time. Wildlife species, such as the red-cockaded woodpecker, that depended on this natural ecosystem were widespread.

The fire dependent longleaf pine ecosystem was the most prevalent forest type in the south during pre-settlement times. Forests were cleared for farming and charcoal production to furnish the iron industry. Based on early journals, the original ecosystem was maintained with frequent natural fires. The natural, upland forest community was primarily longleaf pine with associated shrubs and fire tolerant hardwoods. From 1908-1929 there was large-scale removal of longleaf pine for lumber and to fuel the iron industry.

Federal acquisition, relocation of farm families and establishment of National Forests took place from 1935-1940. During this time period there were large-scale soil stabilization projects completed through reforestation efforts. The primary species planted was loblolly pine due to availability of seed and early success establishing stands of loblolly. From 1940-1950 there was intensive fire suppression along with continued reforestation efforts and loss of natural shortleaf pine stands due to littleleaf disease. During the 1960's the first signs of loblolly decline were reported and research results from the 1990's show littleleaf disease as one pathogen causing loblolly decline.

Over the past decade, the Talladega and Shoal Creek Ranger District's has been experiencing Southern Pine Beetle infestations at epidemic levels, primarily in loblolly pine and Virginia pine stands. The epidemic peaked in the summer of 2000 and continued at very high levels through through 2001. These infestations have contributed to the immediate need for intermediate thinning to reduce the risk of SPB attack (Final Environmental Impact Statement For the Suppression of the Southern Pine Bettle).

Continued loss of imperiled longleaf pine communities, declining forest health, and the loss of red-cockaded woodpeaker habitat due to over stocking are our primary concerns or reason for initiating this project.

As a result of initial field examinations we propose to thin, as the first phase of longleaf restoration and to also improve stand health, 6,534 acres of loblolly/Virginia pine, thin 3,047 acres of RCW habitat, and convert 9,136 acres back to longleaf.

D. Proposed Scoping Process

The scoping period associated with this Notice of Intent (NOI) will be thirty (30) days in length, beginning the day after publication. Preliminary scoping for this proposal began in February, 2002, when information was shared with the public on the proposal and plans to document the analysis in an Environmental Impact Statement (EIS). A public meeting at the Talladega Ranger District office will be held on June 13, and June 15, from 9 a.m.-1 p.m. to discuss the proposal and visit some selected areas that may be treated.

The Talladega National Forest, Talladega and Shoal Creek Ranger Districts, is seeking additional information, comments, and assistance from Federal, State, and local agencies and other individuals or organizations that may be interested in or affected by the proposed action. This input will be used in preparation of the Draft Environmental Impact Statement (DEIS). The scoping process includes:

1. Identifying potential issues.

2. Identify issues to be analyzed in depth.

3. Eliminating insignificant issues or those, which have been covered by a relevant previous environmental analysis.

4. Exploring additional alternatives.

5. Identifying potential environmental effects of the proposed action and alternatives.

E. Preliminary Issues Identified to Date Include

1. Protection of soil and water resources.

2. Impacts of the proposed treatments on Federally listed species of plants and wildlife, which are defined by the Endangered Species Act of 1973 as amended, Forest Service Regional Forester's Sensitive Species list, and upon locally rare species.

3. Protection of cultural resources.

4. Potential effects to management indicator species.

F. Possible Alternatives Identified to Date Include

1. No Action: This alternative will serve as a baseline for comparison of alternatives. Present management activities will continue but the proposed project will not be done. This alternative will be fully developed and analyzed.

2. Proposed Action: Intermediate thinning of approximately 6,534 acres of 20-45 year old loblolly pine stands will be an initial step to improving forest health, reducing short-term SPB infestation risks, and restoring these areas to a longleaf pine ecosystem. Thinning will take place in stands that are over crowded, and it is proposed to allow the remaining trees more room to grow and increase tree vigor and health. It is anticipated that approximately 70 square feet of basal area per acre will remain in thinned areas.

This proposal also includes thinning of 3,047 acres to enhance and/or create existing or potential RCW habitat. Current areas providing RCW habitat are overstocked. Thinning these areas will create optimal conditions for RCW recruitment/replacement stands and foraging habitat.

The restoration treatments in the proposed action will encompass 9,136 acres. The types of tree removal, site preparation, and regeneration will vary according to site conditions and whether longleaf is present to provide a seed source. Restoration cuts will include complete removal of off-site species (excluding longleaf and favored hardwoods such as oaks and hickories), and thinning of existing off-site species. Site preparation methods associated with these treatments will range from or include a combination of prescribed burning, mechanical, and chemical treatment of competing vegetation. Chemical treatment of restoration stands will include directed foliar spray of a 3% solution of Garlon 4, ½% Arsonal, and ½% Sidekick. For injection, a 50% solution of Garlon 3 will be used. Regeneration of longleaf pine will depend on residual longleaf in the areas to be restored. Planted containerized longleaf, natural regeneration, or a combination of both will be the options for the restoration proposal.

3. Modified Proposed Action: This alternative would include a five-year program of thinning and restoration cuts. Site preparation would be done using mechanized equipment. Release of seedlings would be with hand tools. No herbicides would be used.

G. Special Permit Needs

There are no special permits required from any State or Federal agencies in order to implement this project.

H. Lead Agency

The USDA Forest Service is the lead agency for this project.

The Talladega and Shoal Creek Ranger Districts requests that comments be as specific as possible for this proposal and be sent to: EIS Team Leader Jeff Seefeldt, USDA Forest Service, 101 North Street, Talladega, AL 35160.

It is estimated that the draft EIS (DEIS) will be available for public comment by July 31, 2003. It is very important that those interested in this proposed action participate at this time.

To be helpful, comments on the DEIS should be as specific as possible and may address the adequacy of the statement of the merits of the alternative discussed (see the Council on Environmental Quality Regulations for implementing the procedural provisions of the National Environmental Policy Act at 4 CFR 1503.3).

In addition, Federal court decisions have established that reviewers of DEIS's must structure their participation in the environmental review of the proposal so that it is meaningful and alerts the agency to the reviewers' position and contentions: Vermon Yankee Nuclear Power Corp. v. NROC, 435 U.S. 519, 553 (1978). Environmental objections that could have been raised at the draft stage may be waived if not raised until after completion of the final environmental impact statement FEIS). City of Angoon v. Hodel, 803 F.2d 1016, 1022 (9th Cir. 1986) and Wisconsin Heritages, Inc. v. Harris, 490 F. Supp. 1334, 1338 (E.D. Wis. 1980). The reason for this is to ensure that substantive comments and objections are made available to the Forest Service at a time when it can meaningfully consider them and respond to them in the FEIS.

I. Estimated Date for FEIS

After the comment period ends on the DEIS, the comments will be analyzed, considered, and responded to by the Forest Service in preparing the final Environmental Impact Statement (FEIS). The FEIS is scheduled to be completed by November 17, 2003. The responsible officials will consider the comments, responses, environmental consequences discussed in the final supplement, applicable laws, regulations, and policies in making a decision regarding this proposal. The responsible officials will document the decision and reasons for the decision in the Record of Decision. That decision will be subject to appeal under 3 CFR, part 215.

The responsible officials for this project will be Tony Tooke, District Ranger for the Talladega Ranger District, National Forests in Alabama at: 1001 North Street, Talladega, AL 35160 and Earl Stewart, District Ranger, Shoal Creek Ranger District, National Forests in Alabama at : 2390 Hwy. 46, Heflin, AL 36264.

Dated: May 28, 2002.
Tony Tooke,
District Ranger.
Dated: May 30, 2002.
Earl Stewart,
District Ranger.

[FR Doc. 02-14014 Filed 6-04-02; 8:45 am]

BILLING CODE 3410-11-M